DEPARTMENT OF TRANSPORTATION

Federal Aviation Administration

14 CFR Part 39

[Docket No. FAA-2007-29226; Directorate Identifier 2006-NM-256-AD; Amendment 39-15298; AD 2007-25-16]

RIN 2120-AA64

Airworthiness Directives; McDonnell Douglas Model DC-9-81 (MD-81) and DC-9-82 (MD-82) Airplanes

AGENCY: Federal Aviation Administration (FAA), DOT.

ACTION: Final rule.

SUMMARY: We are adopting a new airworthiness directive (AD) for certain McDonnell Douglas Model DC-9-81 (MD-81) and DC-9-82 (MD-82) airplanes. This AD requires, for certain airplanes, inspecting for cracking of the fuselage skin at the upper corners of the forward passenger doorjamb, installing or replacing doublers as applicable, and doing applicable repairs. This AD results from reports of fatigue cracking in the fuselage skin at the upper corners of the forward passenger doorjamb. We are issuing this AD to prevent cracking of the fuselage skin at the upper corners of the forward passenger doorjamb, which could lead to loss of overall structural integrity of the airplane.

DATES: This AD is effective January 14, 2008.

The Director of the Federal Register approved the incorporation by reference of a certain publication listed in this AD as of January 14, 2008.

ADDRESSES: For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Roger Durbin, Aerospace Engineer, Airframe Branch, ANM-120L, FAA, Los Angeles Aircraft Certification Office, 3960 Paramount Boulevard, Lakewood, California 90712-4137; telephone (562) 627-5233; fax (562) 627-5210.

SUPPLEMENTARY INFORMATION:

Discussion

We issued a notice of proposed rulemaking (NPRM) to amend 14 CFR part 39 to include an airworthiness directive (AD) that would apply to certain McDonnell Douglas Model DC-9-81 (MD-81) and DC-9-82 (MD-82) airplanes. That NPRM was published in the Federal Register on September 19, 2007 (72 FR 53495). That NPRM proposed to require, for certain airplanes, inspecting for cracking of the fuselage skin at the upper corners of the forward passenger doorjamb, installing or replacing doublers as applicable, and doing applicable repairs.

Comments

We gave the public the opportunity to participate in developing this AD. We received no comments on the NPRM or on the determination of the cost to the public.

Conclusion

We reviewed the relevant data and determined that air safety and the public interest require adopting the AD as proposed.

Costs of Compliance

There are about 76 airplanes of the affected design in the worldwide fleet. This AD affects about 46 airplanes of U.S. registry. The following table provides the estimated costs for U.S. operators to comply with this AD, at an average labor rate of $80 per work hour. The actions vary depending upon the airplane configuration.

Estimated Costs
Action | Work hours | Parts | Cost per airplane | Fleet cost
Low frequency eddy current inspection | 1 | None needed | $80, per inspection cycle | Up to $3,680, per inspection cycle.
High frequency eddy current inspection | 1 | None needed | $80, per inspection cycle | Up to $3,680, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-25-16 McDonnell Douglas: Amendment 39-15298. Docket No. FAA-2007-29226; Directorate Identifier 2006-NM-256-AD.

Effective Date

(a) This airworthiness directive (AD) is effective January 14, 2008.

Affected ADs

(b) None.

Applicability

(c) This AD applies to McDonnell Douglas Model DC-9-81 (MD-81) and DC-9-82 (MD-82) airplanes; certificated in any category; as identified in Boeing Alert Service Bulletin MD80-53A298, dated August 1, 2006.

Unsafe Condition

(d) This AD results from a report of fatigue cracking in the fuselage skin at the upper corners of the forward passenger doorjamb. We are issuing this AD to prevent cracking of the fuselage skin at the upper corners of the forward passenger doorjamb, which could lead to loss of overall structural integrity of the airplane.

Compliance

(e) You are responsible for having the actions required by this AD performed within the compliance times specified, unless the actions have already been done.

Repetitive Inspections and Corrective Actions for Configuration 1, 2, and 3 Airplanes

(f) For airplanes identified as Configuration 1, 2, or 3 in Boeing Alert Service Bulletin MD80-53A298, dated August 1, 2006: At the applicable times specified in paragraph 1.E., “Compliance,” of the alert service bulletin, do a low-frequency eddy current (LFEC) or high-frequency eddy current (HFEC) inspection, as applicable, for cracking of the fuselage skin at the upper corners of the forward passenger doorjamb; and do all applicable corrective actions (repetitive inspections, installation of doublers, replacements, and repairs), except as provided by paragraph (g) of this AD. Do the actions in accordance with the Accomplishment Instructions of the alert service bulletin. Where the alert service bulletin specifies a compliance time after the date on the service bulletin, this AD requires compliance within the specified compliance time after the effective date of this AD.

Repair of Certain Conditions

(g) If any crack is found during any inspection required by paragraph (f) of this AD and Boeing Alert Service Bulletin MD80-53A298, dated August 1, 2006, specifies to contact Boeing for repair instructions: Before further flight, repair using a method approved in accordance with the procedures specified in paragraph (i) of this AD.

Corrective Action for Configuration 4 Airplanes

(h) For airplanes identified as Configuration 4 in Boeing Alert Service Bulletin MD80-53A298, dated August 1, 2006: Within 90 days after the effective date of this AD, repair using a method approved in accordance with the procedures specified in paragraph (i) of this AD.

Alternative Methods of Compliance (AMOCs)

(i)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane and 14 CFR 25.571, Amendment 45, and the approval must specifically refer to this AD.

Material Incorporated by Reference

(j) You must use the Accomplishment Instructions of Boeing Alert Service Bulletin MD80-53A298, dated August 1, 2006, to do the actions required by this AD, unless the AD specifies otherwise.

(1) The Director of the Federal Register approved the incorporation by reference of this service information under 5 U.S.C. 552(a) and 1 CFR part 51.

(2) For service information identified in this AD, contact Boeing Commercial Airplanes, Long Beach Division, 3855 Lakewood Boulevard, Long Beach, California 90846, Attention: Data and Service Management, Dept. C1-L5A (D800-0024).

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on November 29, 2007.
Stephen P. Boyd,
Assistant Manager, Transport Airplane Directorate, Aircraft Certification Service.

[FR Doc. E7-23687 Filed 12-7-07; 8:45 am]

BILLING CODE 4910-13-P